DEPARTMENT OF THE INTERIOR

Bureau of Land Management

[CACA 50123, LLCA920000 L1310000 FI0000]

Notice of Proposed Reinstatement of Terminated Oil and Gas Lease CACA 50123, California

AGENCY: Bureau of Land Management, Interior.

ACTION: Notice of Proposed Reinstatement of Terminated Oil and Gas Lease.

SUMMARY: Under the provisions of 30 U.S.C. 188(d) and (e), and 43 CFR 3108.2-3(a) and (b)(1), the Bureau of Land Management (BLM) received a petition for reinstatement of oil and gas lease CACA 50123 from West Coast Land Service. The petition was filed on time and was accompanied by all required rentals and royalties accruing from November 1, 2010, the date of termination.

FOR FURTHER INFORMATION CONTACT: Rita Altamira, Land Law Examiner, Branch of Adjudication, Division of Energy and Minerals, BLM California State Office, 2800 Cottage Way, W-1623, Sacramento, California 95825, (916) 978-4378.

SUPPLEMENTARY INFORMATION: No valid lease has been issued affecting the lands. The lessee has agreed to new lease terms for rentals and royalties at rates of $10 per acre or fraction thereof and 16⅔ percent, respectively. The lessee has paid the required $500 administrative fee and has reimbursed the BLM for the cost of this Federal Register notice. The Lessee has met all the requirements for reinstatement of the lease as set out in Sections 31(d) and (e) of the Mineral Leasing Act of 1920 (30 U.S.C. 188), and the Bureau of Land Management is proposing to reinstate the lease effective November 1, 2010, subject to the original terms and condition of the lease and the increased rental and royalty rates cited above.

Debra Marsh,
Supervisor, Branch of Adjudication, Division of Energy & Minerals.

[FR Doc. 2012-3897 Filed 2-17-12; 8:45 am]

BILLING CODE 4310-40-P